DEPARTMENT OF ENERGY

Proposed Agency Information Collection

AGENCY: U.S. Department of Energy.

ACTION: Notice and request for OMB review and comment.

SUMMARY: The Department of Energy (DOE) has submitted to the Office of Management and Budget (OMB) for clearance, a proposal for collection of information under the provisions of the Paperwork Reduction Act of 1995. The Department of Energy (DOE) Weatherization Assistance Program (WAP) is a formula grant funding program. DOE has developed four forms designed to reduce the length of time to input information and provide a consistent format for all States to submit as part of their State Application and Plan process. This activity will benefit the program and States because all forms are in electronic format that will populate a database for program information. The program information captured will be used to provide the most current program information for budget, congressional and public inquiries of the program. The forms once approved will be submitted to Grants.gov for conversion to the Pure Edge Viewer Format that will be used in the future as part of the new Grants.gov process system.

DATES: Comments regarding this collection must be received on or before April 13, 2005. If you anticipate that you will be submitting comments, but find it difficult to do so within the period of time allowed by this notice, please advise the OMB Desk Officer of your intention to make a submission as soon as possible. The Desk Officer may be telephoned at 202-395-4650.

ADDRESSES: Written comments should be sent to the DOE Desk Officer, Office of Information and Regulatory Affairs, Office of Management and Budget, New Executive Office Building, Room 10102, 735 17th Street, NW., Washington, DC 20503.

Comments should also be addressed to: Sharon Evelin, Acting Director, IM-11/Germantown Bldg., U.S. Department of Energy, 1000 Independence Ave, SW., Washington, DC 20585-1290, and to Joseph Konrade, EE-2K, U.S. Department of Energy, 1000 Independence Ave, SW., Washington, DC 20585-1290.

FOR FURTHER INFORMATION CONTACT: Requests for additional information copies of the information collection instrument and instructions should be directed to Joseph Konrade at the address listed in ADDRESSES.

SUPPLEMENTARY INFORMATION: This package contains: (1) OMB No.: “New”; (2) Package Title: Weatherization Assistance Program (3) Type of Request: New collection. (4) Purpose: The Weatherization Assistance Program provides grants to States, the District of Columbia and Native American tribes annually. (5) Type of Respondents: States, District of Columbia and NativeAmerican Tribes; (6) Estimated Number of Respondents: 52; (7) Estimated Number of Burden Hours: 3 Hours Per Respondent.

Statutory Authority: 10 CFR part 440.

Issued in Washington, DC on March 8, 2005.
Sharon Evelin,
Acting Director, Records Management Division, Office of the Chief Information Officer.

[FR Doc. 05-4961 Filed 3-11-05; 8:45 am]

BILLING CODE 6450-01-P